DEPARTMENT OF AGRICULTURE

Agricultural Marketing Service

[Doc. Number AMS-FV-13-0018]

United States Standards for Grades of Creole Onions

AGENCY: Agricultural Marketing Service, USDA.

ACTION: Notice.

SUMMARY: This Notice would revise the United States Standards for Grades of Creole Onions, which were issued under the Agricultural Marketing Act of 1946. The Agricultural Marketing Service (AMS) is proposing to amend the similar varietal characteristic requirement to allow mixed colors of onions when designated as a mixed or specialty pack. In addition, AMS would correct language and remove the “Unclassified” category from the standards. This revision would update the standards to more accurately represent today's marketing practices and to provide the industry with greater flexibility.

DATES: Comments must be received by October 21, 2013.

ADDRESSES: Interested persons are invited to submit written comments to the Standardization Branch, Specialty Crops Inspection Division, Fruit and Vegetable Program, Agricultural Marketing Service, U.S. Department of Agriculture, National Training and Development Center, Riverside Business Park, 100 Riverside Parkway, Suite 101, Fredericksburg, VA 22406; Fax: (540) 361-1199, or on the web at: www.regulation.gov. Comments should make reference to the dates and page number of this issue of the Federal Register and will be made available for public inspection in the above office during regular business hours. Comments can also be viewed as submitted, including any personal information you provide, on the www.regulations.gov Web site.

FOR FURTHER INFORMATION CONTACT: Dave Horner, Standardization Branch, Specialty Crops Inspection Division, (540) 361-1128. The current United States Standards for Grades of Creole Onions are available through the Specialty Crops Inspection Division Web site at www.ams.usda.gov/scihome.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Program, and are available on the internet at www.ams.usda.gov/scihome.

AMS is revising the voluntary United States Standards for Grades of Creole Onions using the procedures that appear in Part 36, Title 7 of the Code of Federal Regulations (7 CFR part 36).

Background and Proposed Notice

AMS has observed that the industry is packing mixed colors of onions, primarily in Idaho, Oregon, Washington, and Texas. Currently, the Creole onion standards do not permit mixing white onions with yellow to brownish red onions in the same pack. The proposed revision will provide the flexibility for shippers and packers to do so. AMS believes that permitting mixed colors when designated as a specialty or mixed pack will facilitate the marketing of onions by aligning the standards with current marketing practices. Therefore, AMS proposes to amend the similar varietal characteristic requirement in the U.S. No. 1 and U.S. No. 2 sections of the standards by adding “except color when designated as a specialty or mixed pack.” The U.S. Combination grade section also would be affected by this change.

In addition, AMS would eliminate the “Unclassified” section. AMS is removing this section in standards, for all commodities, as they are revised. This category is not a grade and only serves to show that no grade has been applied to the lot. It is no longer considered necessary.

Furthermore, AMS would replace the capital “S” with a small “s” on the word “Seedstems” found in the U.S. No. 1 and U.S. No. 2 sections of the standards. The word “seedstems” was inadvertently capitalized when the Creole onion standards were reformatted.

AMS believes the proposed revisions will benefit the industry by allowing onion marketing to be more competitive in an evolving U.S. economy. This notice provides for a 60 day comment period for interested parties to comment on the proposed revisions in the standards.

Authority: 7 U.S.C. 1621—1627.

Dated: August 16, 2013.
Rex A. Barnes,
Associate Administrator, Agricultural Marketing Service.

[FR Doc. 2013-20480 Filed 8-21-13; 8:45 am]

BILLING CODE 3410-02-P